SMALL BUSINESS ADMINISTRATION

RIN: 3245-AE72

Small Business Innovation Research Program Policy Directive

AGENCY: U.S. Small Business Administration.

ACTION: Notice of proposed policy directive; Notice of reopening of the comment period.

SUMMARY: The proposed rule proposes revisions to the Small Business Innovation Research (SBIR) Program Policy Directive. The revised proposed policy directive reflects recently enacted statutory requirements. It is proposed to provide guidance to participating Federal agencies for the general conduct of the SBIR Program. The notice of proposed policy directive was published on May 18, 2001, 66 FR 27721. The comment period closed on June 18, 2001. We are reopening the comment period because the Small Business Administration believes that affected businesses need more time to adequately respond.

DATES: The comment period for the proposed policy directive published on May 18, 2001 (66 FR 27721) is reopened through July 23, 2001.

ADDRESSES: Address all comments to Maurice Swinton, Assistant Administrator for Technology, Office of Technology, Office of Policy, Planning, and Liaison, Office of Government Contracting/Business Development, U.S. Small Business Administration, 409 Third Street, SW., Washington, DC 20416 or via e-mail to technology@sba.gov.

Dated: June 14, 2001.
William A. Fisher,
Acting Associate Deputy Administrator.

[FR Doc. 01-15717 Filed 6-21-01; 8:45 am]

BILLING CODE 8025-01-U